DEPARTMENT OF ENERGY

Federal Energy Regulatory Commission

Combined Notice of Filings #1

Take notice that the Commission received the following electric corporate filings:

Docket Numbers: EC19-114-000.

Applicants: Big Sky Wind, LLC, Pattern Renewables 2 LP.

Description: Supplement to July 18, 2019 Application for Authorization Under Section 203 of the Federal Power Act, et al. of Big Sky Wind, LLC, et al.

Filed Date: 8/13/19.

Accession Number: 20190813-5048.

Comments Due: 5 p.m. ET 9/16/19.

Docket Numbers: EC19-119-000.

Applicants: Ashtabula Wind, LLC, Ashtabula Wind I, LLC, FPL Energy Hancock County Wind, LLC, Hancock County Wind, LLC, Story Wind, LLC, Story County Wind, LLC.

Description: Joint Application for Authorization Under Section 203 of the Federal Power Act, et al. of Ashtabula Wind, LLC, et al.

Filed Date: 8/13/19.

Accession Number: 20190813-5086.

Comments Due: 5 p.m. ET 9/3/19.

Take notice that the Commission received the following electric rate filings:

Docket Numbers: ER19-2189-000.

Applicants: Palmetto Plains Solar Project, LLC.

Description: Report Filing: Supplemental Information to be effective N/A.

Filed Date: 8/12/19.

Accession Number: 20190812-5192.

Comments Due: 5 p.m. ET 9/3/19.

Docket Numbers: ER19-2575-001.

Applicants: Techren Solar I LLC.

Description: Tariff Amendment: Filing of Amendments to Substation Agreement and Gen-Tie Agreement to be effective 8/13/2019.

Filed Date: 8/12/19.

Accession Number: 20190812-5195.

Comments Due: 5 p.m. ET 9/3/19.

Docket Numbers: ER19-2579-000.

Applicants: Techren Solar II LLC.

Description: Baseline eTariff Filing: Filing of Substation and Gen-Tie Agreements and Certificate of Concurrence to be effective 8/13/2019.

Filed Date: 8/12/19.

Accession Number: 20190812-5163.

Comments Due: 5 p.m. ET 9/3/19.

Docket Numbers: ER19-2580-000.

Applicants: AEP Texas Inc.

Description: § 205(d) Rate Filing: AEPTX-Rayos Del Sol Solar Project GIA 1st Amd & Restated to be effective 7/23/2019.

Filed Date: 8/12/19.

Accession Number: 20190812-5181.

Comments Due: 5 p.m. ET 9/3/19.

Docket Numbers: ER19-2581-000.

Applicants: AEP Texas Inc.

Description: § 205(d) Rate Filing: AEPTX-Shakes Solar GIA 3rd Amd & Restated to be effective 7/23/2019.

Filed Date: 8/12/19.

Accession Number: 20190812-5177.

Comments Due: 5 p.m. ET 9/3/19.

Docket Numbers: ER19-2582-000.

Applicants: Pacific Gas and Electric Company.

Description: Application requesting authorization to recover approximately $9.2 million in project abandonment costs of Pacific Gas and Electric Company.

Filed Date: 8/12/19.

Accession Number: 20190812-5199.

Comments Due: 5 p.m. ET 9/3/19.

Docket Numbers: ER19-2583-000.

Applicants: Green River Wind Farm Phase 1, LLC.

Description: Baseline eTariff Filing: Application for Market-Based Rate Authority to be effective 10/14/2019.

Filed Date: 8/13/19.

Accession Number: 20190813-5071.

Comments Due: 5 p.m. ET 9/3/19.

Docket Numbers: ER19-2584-000.

Applicants: Crocker Wind Farm, LLC.

Description: Baseline eTariff Filing: Application for Market-Based Rate Authority to be effective 10/14/2019.

Filed Date: 8/13/19.

Accession Number: 20190813-5082.

Comments Due: 5 p.m. ET 9/3/19.

Docket Numbers: ER19-2585-000.

Applicants: Florida Power & Light Company.

Description: § 205(d) Rate Filing: Florida Power & Light Company's 2019 Rate Case Filing to be effective 11/1/2019.

Filed Date: 8/13/19.

Accession Number: 20190813-5126.

Comments Due: 5 p.m. ET 9/3/19.

Docket Numbers: ER19-2586-000.

Applicants: Midcontinent Independent System Operator, Inc., MidAmerican Energy Company.

Description: § 205(d) Rate Filing: 2019-08-13_SA 3339 MidAmerican-Contrail Wind Project E&P (J611) to be effective 7/25/2019.

Filed Date: 8/13/19.

Accession Number: 20190813-5131.

Comments Due: 5 p.m. ET 9/3/19.

Docket Numbers: ER19-2587-000.

Applicants: Puget Sound Energy, Inc.

Description: Puget Sound Energy, Inc. submits Average System Cost Filing for Sales of Electric Power to the Bonneville Power Administration, FY 2020-2021.

Filed Date: 8/13/19.

Accession Number: 20190813-5142.

Comments Due: 5 p.m. ET 9/3/19.

Docket Numbers: ER19-2588-000.

Applicants: Public Service Company of Colorado.

Description: Compliance filing: Twin Eagle—MBR—08.13.19 to be effective7/1/2019.

Filed Date: 8/13/19.

Accession Number: 20190813-5143.

Comments Due: 5 p.m. ET 9/3/19.

Docket Numbers: ER19-2589-000.

Applicants: Appalachian Power Company, Indiana Michigan Power Company, Kentucky Power Company, Kingsport Power Company, Ohio Power Company, Wheeling Power Company, AEP Appalachian Transmission Company, Inc., AEP Indiana Michigan Transmission Company, AEP Kentucky Transmission Company, Inc., AEP Ohio Transmission Company, Inc., AEP West Virginia Transmission Company, Inc., PJM Interconnection, L.L.C.

Description: § 205(d) Rate Filing: AEP submits revisions to OATT, Att H-14B and H-20B re: WV Depreciation Rate Upda to be effective 3/6/2019.

Filed Date: 8/13/19.

Accession Number: 20190813-5146.

Comments Due: 5 p.m. ET 9/3/19.

Docket Numbers: ER19-2590-000.

Applicants: Marco DM Holdings, L.L.C.

Description: § 205(d) Rate Filing: Change in Seller Category to be effective 8/14/2019.

Filed Date: 8/13/19.

Accession Number: 20190813-5160.

Comments Due: 5 p.m. ET 9/3/19.

Docket Numbers: ER19-2591-000.

Applicants: Plum Point Energy Associates, LLC.

Description: § 205(d) Rate Filing: Change in Seller Category to be effective 8/14/2019.

Filed Date: 8/13/19.

Accession Number: 20190813-5161.

Comments Due: 5 p.m. ET 9/3/19.

Docket Numbers: ER19-2592-000.

Applicants: Plum Point Services Company, LLC.

Description: § 205(d) Rate Filing: Change in Seller Category to be effective 8/14/2019.

Filed Date: 8/13/19.

Accession Number: 20190813-5162.

Comments Due: 5 p.m. ET 9/3/19.

Docket Numbers: ER19-2593-000.

Applicants: Florida Power & Light Company.

Description: § 205(d) Rate Filing: FPL Second Revised FERC Rate Schedule No. 193 to be effective 6/26/2019.

Filed Date: 8/13/19.

Accession Number: 20190813-5182.

Comments Due: 5 p.m. ET 9/3/19.

Docket Numbers: ER19-2594-000.

Applicants: PJM Interconnection, L.L.C.

Description: Tariff Cancellation: Notice of Cancellation of 13 Service Agreements re: Deactivations and Withdrawal to be effective 1/5/2016.

Filed Date: 8/13/19.

Accession Number: 20190813-5207.

Comments Due: 5 p.m. ET 9/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2019.
Nathaniel J. Davis, Sr.,
Deputy Secretary.

[FR Doc. 2019-17850 Filed 8-19-19; 8:45 am]

BILLING CODE 6717-01-P